DEPARTMENT OF COMMERCE

Foreign-Trade Zones Board

[Order No. 1276]

Expansion and Reorganization of Foreign-Trade Zone 226 Merced, Madera, Fresno and Tulare Counties, CA

Pursuant to its authority under the Foreign-Trade Zones Act of June 18, 1934, as amended (19 U.S.C. 81a-81u), the Foreign-Trade Zones Board (the Board) adopts the following Order:

Whereas, the County of Merced, California, grantee of Foreign-Trade Zone 226, submitted an application to the Board for authority to expand and reorganize FTZ 226 to relocate Site 2 (251 acres) to the Mid-State 99 Distribution Center, to expand Site 10 to include a temporary area (25 acres) at the Fresno Yosemite International Airport and to delete certain parcels/sites from the zone plan, within and adjacent to the Fresno Customs port of entry area (FTZ Docket 33-2002; filed 8/26/02);

Whereas, notice inviting public comment was given in the Federal Register (67 FR 56984, 9/6/02) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 226 is approved, subject to the Act and the Board's regulations, including Section 400.28, and further subject to the Board's standard 2,000-acre activation limit for the overall zone project.

Signed at Washington, DC, this 14th day of May 2003.
Jeffrey A. May,
Acting Assistant Secretary of Commerce for Import Administration, Alternate Chairman, Foreign-Trade Zones Board.
Attest:
Dennis Puccinelli,
Executive Secretary.

[FR Doc. 03-12880 Filed 5-21-03; 8:45 am]

BILLING CODE 3510-DS-P